DEPARTMENT OF COMMERCE

International Trade Administration

[C-122-858]

Certain Softwood Lumber Products From Canada: Partial Rescission of Expedited Review of the Countervailing Duty Order

AGENCY: Enforcement and Compliance, International Trade Administration, Department of Commerce.

SUMMARY: The Department of Commerce (Commerce) is partially rescinding the expedited review of the countervailing duty order (CVD) on certain softwood lumber products (softwood lumber) from Canada for the period January 1, 2015, through December 31, 2015.

DATES: Applicable May 21, 2018.

FOR FURTHER INFORMATION CONTACT: Kristen Johnson, AD/CVD Operations, Enforcement and Compliance, International Trade Administration, U.S. Department of Commerce, 1401 Constitution Avenue NW, Washington, DC 20230; telephone (202) 482-4793.

SUPPLEMENTARY INFORMATION:

Background

On January 3, 2018, Commerce published the CVD order on softwood lumber from Canada.¹ Subsequently, Commerce received requests for an expedited review from 34 companies. In accordance with 19 CFR 351.214(k), Commerce initiated an expedited review of the CVD order on softwood lumber from Canada for those companies that requested a review and published the Initiation Notice on March 8, 2018.²

¹ See Certain Softwood Lumber Products from Canada: Amended Final Affirmative Countervailing Duty Determination and Countervailing Duty Order, 83 FR 347 (January 3, 2018).

² See Certain Softwood Lumber Products from Canada: Initiation of Expedited Review of the Countervailing Duty Order, 83 FR 9833 (March 8, 2018) (Initiation Notice).

Between March 2 and May 7, 2018, Commerce received letters from 25 companies withdrawing their requests for an expedited review.³ For a listing of the companies that withdrew their expedited review requests, see Attachment to this notice.

³ The withdrawal of expedited review request letters are available via Enforcement and Compliance's Antidumping and Countervailing Duty Centralized Electronic Service System (ACCESS), which is available at http://access.trade.gov.

Partial Rescission of the Expedited Review

Pursuant to 19 CFR 351.214(f)(1), Commerce will rescind the expedited review for any company that withdraws its request for an expedited review within 60 days after the date of publication of the notice of initiation. The Initiation Notice for this expedited review was published on March 8, 2018.⁴ The withdrawals of review requests were timely filed within the 60-day deadline. Therefore, in accordance with 19 CFR 351.214(f)(1), we are rescinding the expedited review of the CVD order on softwood lumber from Canada with respect to the 25 companies listed in the Attachment. The expedited review will continue with respect to all other firms for which a review was initiated.

⁴ See Initiation Notice.

Notification Regarding Administrative Protective Order

This notice serves as a reminder to parties subject to administrative protective order (APO) of their responsibility concerning the return or destruction of proprietary information disclosed under an APO in accordance with 19 CFR 351.305(a)(3). Timely written notification of the return/destruction of APO materials or conversion to judicial protective order is hereby requested. Failure to comply with the regulations and terms of an APO is a violation which is subject to sanction.

This notice is issued and published in accordance with 19 CFR 351.214(f)(3) and 351.214(k)(3).

Dated: May 15, 2018.
James Maeder,
Associate Deputy Assistant Secretary for Antidumping and Countervailing Duty Operations performing the duties of Deputy Assistant Secretary for Antidumping and Countervailing Duty Operations.

Attachment

Below is the list of companies that withdrew their requests for an expedited review of the countervailing duty order on softwood lumber from Canada.

(1) Olympic Industries, Inc.

(2) Hainesville Sawmill Ltd.

(3) Ivor Forest Products Ltd.

(4) Haida Forest Products Ltd.

(5) Maibec Inc.

(6) Canadian Bavarian Millwork and Lumber

(7) Cedarline Industries Ltd.

(8) Deep Cove Forest Products Inc.

(9) Aquila Cedar Products Ltd.

(10) Delco Forest Products Ltd.

(11) Devon Lumber Co. Ltd.

(12) H.J. Crabbe & Sons Ltd.

(13) Marwood Ltd.

(14) MP Atlantic Wood Ltd.

(15) 752615 B.C. Ltd., Fraserview Remanufacturing Inc., Gillwood Lumber, dba Fraserview Cedar Products

(16) Matériaux Blanchet Inc.

(17) Central Cedar Ltd.

(18) Leslie Forest Products Ltd.

(19) Rielly Lumber Inc.

(20) Antrim Cedar Corporation

(21) Chaleur Sawmills LP

(22) North Enderby Timber Ltd.

(23) Pacific Lumber Remanufacturing Inc.

(24) Power Wood Corp.

(25) Canyon Lumber Company Ltd.

[FR Doc. 2018-10779 Filed 5-18-18; 8:45 am]

BILLING CODE 3510-DS-P